GENERAL SERVICES ADMINISTRATION

41 CFR Chapter 301

[FTR Amendment 97]

RIN 3090-AH44

Federal Travel Regulation; Maximum Per Diem Rates

AGENCY: Office of Governmentwide Policy, GSA.

ACTION: Final rule.

SUMMARY: An analysis of lodging and meal cost survey data reveals that the listing of maximum per diem rates for locations within the continental United States (CONUS) should be updated to provide for the reimbursement of Federal employees' expenses covered by per diem. This final rule increases/decreases the maximum lodging amounts in certain existing per diem localities, adds new per diem localities, and removes a number of previously designated per diem localities. In an effort to improve the ability of the per diem rates to meet the lodging demands of Federal travelers to high cost travel locations, the General Services Administration (GSA) has integrated the contracting mechanism of the new Federal Premier Lodging Program (FPLP) into the per diem rate-setting process. The FPLP will enhance the Government's ability to better meet its overall room night demand and allow travelers to find lodging close to where they need to conduct business.

DATES: This final rule is effective October 1, 2001, and applies for travel performed on or after October 1, 2001.

FOR FURTHER INFORMATION CONTACT: Joddy Garner, Office of Governmentwide Policy, Travel Management Policy Division, at 202 501-1538.

SUPPLEMENTARY INFORMATION:

A. Background

After an analysis of additional data, GSA has determined that current lodging and meals and incidental expenses (M&IE) allowances for certain localities do not adequately reflect the cost of lodging in those areas. To provide adequate per diem reimbursement for Federal employee travel to those areas, the maximum per diem allowances are changed. Properties in high cost travel areas are under no obligation to provide lodging to Federal travelers at the per diem rate. Thus, GSA established the FPLP to contract directly with properties in high cost travel markets to make available a set number of rooms to Federal travelers at contract rates. For the FPLP destinations, those rates will become effective pending contractual awards. (A listing of the FPLP destinations will follow the per diem rates listing).

In addition, GSA has received notice of the Winter Olympics taking place in Salt Lake City, Utah. Effective January 15 through February 28, 2002, the lodging peak-season rate for Park City, Utah, of $169 will apply to the counties of Weber, Davis, Salt Lake, Summit, and Utah to provide for the reimbursement of Federal employees' expenses covered by the per diem.

B. Executive Order 12866

GSA has determined that this final rule is not a significant regulatory action for the purposes of Executive Order 12866 of September 30, 1993.

C. Regulatory Flexibility Act

This final rule is not required to be published in the Federal Register for notice and comment; therefore, the Regulatory Flexibility Act, 5 U.S.C. 601 et seq., does not apply.

D. Paperwork Reduction Act

The Paperwork Reduction Act does not apply because the proposed revisions do not impose recordkeeping or information collection requirements, or the collection of information from offerors, contractors, or members of the public which require the approval of the Office of Management and Budget under 44 U.S.C. 501 et seq.

E. Small Business Regulatory Enforcement Fairness Act

This final rule is also exempt from congressional review prescribed under 5 U.S.C. 801 since it relates solely to agency management and personnel.

List of Subjects in 41 CFR Chapter 301

Government employees, Travel and transportation expenses.

For the reasons set forth in the preamble, under 5 U.S.C. 5701-5709, 41 CFR chapter 301 is amended as follows:

1. Appendix A to chapter 301 is revised to read as follows:

Appendix A to Chapter 301—Prescribed Maximum Per Diem Rates for CONUS

The maximum rates listed below are prescribed under part 301-11 of this chapter for reimbursement of per diem expenses incurred during official travel within CONUS (the continental United States). The amounts shown in column (a) are the maximums that will be reimbursed for lodging expenses excluding taxes. The M&IE rates shown in column (b) are fixed amounts allowed for meals and incidental expenses covered by per diem. The per diem payment calculated in accordance with part 301-11 of this chapter for lodging expenses plus the M&IE rate may not exceed the maximum per diem rate shown in column (c). Seasonal rates apply during the periods indicated. It is the policy of the Government, as reflected in the Hotel Motel Fire Safety Act of 1990 (Pub. L. 101-391, September 25, 1990 as amended by Pub. L. 105-85, November 18, 1997), referred to as “the Act” in this paragraph, to save lives and protect property by promoting fire safety in hotels, motels, and all places of public accommodation affecting commerce. In furtherance of the Act's goals, employees are encouraged to stay in a facility which is fire-safe, i.e., an approved accommodation, when commercial lodging is required. Lodgings that meet the Government requirements are listed on the U.S. Fire Administration's Internet site at http://www.usfa.fema.gov/hotel/index.cfm.

Attachment A to Appendix A of Chapter 301

The FY 2002 per diem rate will not change until FPLP contracts are active in the following locations:

Huntsville, AL

Montgomery, AL

Phoenix/Scottsdale, AZ

Sierra Vista, AZ

Tucson, AZ

Los Angeles, CA

Monterey, CA

Sacramento, CA

San Diego, CA

San Francisco, CA

Colorado Springs, CO

Washington, DC Metropolitan Area

Jacksonville/Mayport, FL

Miami, FL

Tampa/St. Petersburg, FL

Atlanta, GA

Cobb County, GA

Dekalb County, GA

Savannah, GA

Indianapolis, IN

Kansas City/Overland Park, KS

New Orleans, LA

Annapolis, MD

Baltimore, MD

Columbia, MD

Harford County, MD

Lexington Park/Leonardtown/Lusby, MD

Detroit, MI

Minneapolis/St. Paul, MN

Albuquerque, NM

Cincinnati, OH

Columbus, OH

Oklahoma City, OK

Portland, OR

Harrisburg, PA

Philadelphia, PA

Pittsburgh, PA

Charleston, SC

Memphis, TN

Arlington, TX

Austin, TX

Dallas, TX

El Paso, TX

Ft. Worth, TX

Houston, TX

Killeen, TX

San Antonio, TX

Salt Lake City, UT (will change only for the Olympics)

Richmond, VA

Virginia Beach, VA

Seattle, WA

Dated: August 23, 2001.
Stephen A. Perry,
Administrator of General Services.

[FR Doc. 01-21808 Filed 8-30-01; 8:45 am]

BILLING CODE 6820-34-P